SMALL BUSINESS ADMINISTRATION

[Disaster Declaration #17733; UTAH Disaster Number UT-00094 Declaration of Economic Injury]

Administrative Declaration of an Economic Injury Disaster for the State of Utah

AGENCY: U.S. Small Business Administration.

ACTION: Notice.

SUMMARY: This is a notice of an Economic Injury Disaster Loan (EIDL) declaration for the State of UTAH dated 12/20/2022.

Incident: Severe Storm and Flooding.

Incident Period: 08/19/2022 through 08/21/2022.

DATES: Issued on 12/20/2022.

Economic Injury (EIDL) Loan Application Deadline Date: 09/20/2023.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the Administrator's EIDL declaration, applications for economic injury disaster loans may be filed at the address listed above or other locally announced locations.

The following areas have been determined to be adversely affected by the disaster:

Primary Counties: Grand.

Contiguous Counties:

Utah: Emery, San Juan, Uintah, Wayne

Colorado: Garfield, Mesa, Montrose

The Interest Rates are:

| Percent
Businesses and Small Agricultural Cooperatives without Credit Available Elsewhere | 3.040
Non-Profit Organizations without Credit Available Elsewhere | 1.875

The number assigned to this disaster for economic injury is 177330.

The States which received an EIDL Declaration #17733 are Colorado, Utah.

(Catalog of Federal Domestic Assistance Number 59008)

Isabella Guzman,
Administrator.

[FR Doc. 2022-28089 Filed 12-23-22; 8:45 am]

BILLING CODE 8026-09-P